DEPARTMENT OF HEALTH AND HUMAN SERVICES

[Document Identifier: OS-4040-0010]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 19, 2019.

ADDRESSES: Submit your comments to OIRA_submission@omb.eop.gov or via facsimile to (202) 395-5806.

FOR FURTHER INFORMATION CONTACT: Ed Calimag, ed.calimag@hhs.gov or (202) 690-7569. When submitting comments or requesting information, please include the document identifier 4040-0010-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: Project/Performance Site Location(s), Project Abstract, and Key Contacts.

Type of Collection: Extension.

OMB No.: 4040-0010.

Abstract: The Project/Performance Site Location(s), Project Abstract, and Key Contacts forms provide the Federal grant-making agencies an alternative to the Standard Form 424 data set and form. Agencies may use the Project/Performance Site Location(s), Project Abstract, and Key Contacts forms for grant programs not required to collect all the data that is required on the SF-424 core data set and form. The IC expires 10/31/2019. We are seeking an extension of these information collections and a three-year clearance.

Estimated Annualized Burden Table
Forms | Number of respondents | Number of responses per respondent | Average Burden hours per response | Total burden hours
Project/Performance Site Location(s) | 127,281 | 1 | 1 | 127,281
Project Abstract | 230 | 1 | 1 | 230
Key Contacts | 4,566 | 1 | 1 | 4,566
Total | 132,077 |  |  | 132,077

Terry Clark,
Office of the Secretary, Paperwork Reduction Act Reports Clearance Officer.

[FR Doc. 2019-15395 Filed 7-18-19; 8:45 am]

BILLING CODE 4151-AE-P